DEPARTMENT OF DEFENSE

GENERAL SERVICES ADMINISTRATION

NATIONAL AERONAUTICS AND SPACE ADMINISTRATION

48 CFR Part 52

[FAR Case 2002-024 Correction]

RIN 9000-AJ80

Federal Acquisition Regulation; Electronic Representations and Certifications; Correction

AGENCIES: Department of Defense (DOD), General Services Administration (GSA), and National Aeronautics and Space Administration (NASA).

ACTION: Correction.

SUMMARY: The Civilian Agency Acquisition Council and the Defense Acquisition Regulations Council are issuing a correction to the proposed rule issued as FAR case 2002-024, Electronic Representations and Certifications, to correct an amendatory instruction.

FOR FURTHER INFORMATION CONTACT: Ms. Laurie Duarte at (202) 501-4755, General Services Administration, Regulatory Secretariat, Washington, DC 20405.

Correction

In the proposed rule document appearing at 69 FR 4012, January 27, 2004, on page 4015, first column, amendatory instruction 9 is corrected to read as follows: “Amend section 52.212-3 by revising the date of the provision; adding an introductory paragraph; and adding paragraph (j) to read as follows:”

Dated: January 29, 2004.
Ralph De Stefano,
Acting Director, Acquisition Policy Division.

[FR Doc. 04-2348 Filed 2-4-04; 8:45 am]

BILLING CODE 6820-EP-P